DEPARTMENT OF ENERGY

Federal Energy Regulatory Commission

Notice of Application Tendered for Filing With the Commission, Establishing Procedural Schedule for the Relicensing and a Deadline for Submission of Final Amendments

January 3, 2003.

Take notice that the following hydroelectric application has been filed with the Commission and is available for public inspection.

a. Type of Application: New Major License.

b. Project No.: 2233-043.

c. Date Filed: December 27, 2002.

d. Applicant: Portland General Electric Company.

e. Name of Project: Willamette Falls Hydroelectric Project.

f. Location: On the Willamette River in Clackamas County, Oregon near the towns of Oregon City and West Linn.

g. Filed Pursuant to: Federal Power Act 16 U.S.C. 791a.

h. Applicant Contact: Julie S. Keil, Portland General Electric Company, 121 SW Salmon Street, Portland, Oregon 97204, (503) 464-8864; Bruce Martin, Blue Heron Paper Company, 419 Main Street, Oregon City, Oregon.

i. FERC Contact: John Blair (202) 502-6092 or john.blair@FERC.gov.

j. The existing project: Portland General Electric (PGE) and Blue Heron Paper Company (BHPC) propose to continue operation of the Willamette Falls Hydroelectric Project on the Willamette River. The dam is a 2300 feet long horseshoe shaped concrete structure that caps the crest of Willamette Falls. The Project is operated run-of-river. It is comprised of two separate hydroelectric generating developments located on the east (Oregon City) and west (West Linn) sides of Willamette Falls. The Project has a total generation capacity of 17.5 megawatts (MW) 16 MW at PGE's T.W. Sullivan plant and 1.5 MW at BHPC. T.W. Sullivan powerhouse contains 13 vertical turbine generators; BHPC powerhouse contains 2 horizontal turbine generators.

k. A copy of the application is on file with the Commission and is available for public inspection. This filing is available for review at the Commission in the Public Reference Room or may be viewed on the Commission's Web site at http://www.ferc.gov using the “FERRIS” link. Enter the docket number excluding the last three digits in the docket number field to access the document. The number must be proceeded by the letter “P”. For assistance, please contact FERC Online Support at FERCOnlineSupport@ferc.gov or toll-free at (866) 208-3676, or for TTY, contact (202) 502-8659. A copy is also available for inspection and reproduction at the address in item “h” above.

l. With this notice, we are initiating consultation with the Oregon State Historic Preservation Officer (SHPO), as required by '106, National Historic Preservation Act, and the regulations of the Advisory Council on Historic Preservation, 36 CFR 800.4.

m. Procedural schedule and final amendments: The application will be processed according to the following Hydro Licensing Schedule. Revisions to the schedule will be made as appropriate.

Issue Deficiency or Acceptance Letter February 2003.

Notice soliciting comments, final terms and conditions February 2003.

Notice of the availability of the draft EA September 2003.

Notice of the availability of the final EA January 2004.

Ready for Commission's decision on the application February 2004.

Final amendments to the application must be filed with the Commission no later than 30 days from the issuance date of the notice soliciting comments, final terms and conditions.

Magalie R. Salas,
Secretary.

[FR Doc. 03-467 Filed 1-9-03; 8:45 am]

BILLING CODE 6717-01-P